FEDERAL COMMUNICATIONS COMMISSION

Information Collection(s) Being Reviewed by the Federal Communications Commission, Comments Requested

AGENCY: Federal Communications Commission.

ACTION: Notice; request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before May 31, 2013. If you anticipate that you will be submitting PRA comments, but find it difficult to do so within the period of time allowed by this notice, you should advise the FCC contact listed below as soon as possible.

ADDRESSES: Submit your PRA comments to Judith B. Herman, Federal Communications Commission, via the Internet at Judith-b.herman@fcc.gov. To submit your PRA comments by email send them to: PRA@fcc.gov.

FOR FURTHER INFORMATION CONTACT: Judith B. Herman, Office of Managing Director, (202) 418-0214.

SUPPLEMENTARY INFORMATION:

OMB Control Number: 3060-0804.

Title: Universal Service—Rural Health Care Program.

Form Numbers: FCC Forms 460, 461, 462, 463 (new); 465, 466, 466-A, and 467.

Type of Review: Revision of a currently approved collection.

Respondents: Business or other for-profit; not-for-profit institutions; federal government; and state, local, or Tribal governments.

Number of Respondents and Responses: 10,400 respondents; 38,745 responses.

Estimated Time per Response: 1.69 hours.

Frequency of Response: On occasion, one time, annual, quarterly, and monthly reporting requirements.

Obligation to Respond: Required to obtain or retain benefits. Statutory authority for this collection of information is contained in 47 U.S.C. sections 151, 154(i), 154(j), 201-205, 214, 254 and 403.

Total Annual Burden: 65,614 hours.

Total Annual Cost: $60,000.

Privacy Impact Assessment: No Impact(s).

Nature and Extent of Confidentiality: The Commission is not requesting that the respondents submit confidential information to the FCC. Respondents may, however, request confidential treatment for information they believe to be confidential under 47 CFR 0.459 of the Commission's rules. We note that the universal service administrator must preserve the confidentiality of all data obtained from respondents and contributors to the universal service support program mechanism; must not use the data except for purposes of administering the universal service support program; and must not disclose data in company-specific form unless directed to do so by the Commission.

Needs and Uses: The Federal Communications Commission (hereinafter referred to as the Commission or FCC) seeks Office of Management and Budget (OMB) approval of revisions (change in reporting and recordkeeping requirements) of an information collection (IC) previously approved by OMB under this OMB Control Number 3060-0804, which is utilized for the rural health care (RHC) support mechanism of the Commission's universal service fund (USF). The purpose of the revision is to seek approval for: (1) New information collection requirements associated with the Healthcare Connect Fund, a new RHC fund created by the Commission's Report and Order, Rural Health Care Support Mechanism, WC Docket No. 02-60, FCC 12-150 (released Dec. 21, 2012) (Healthcare Connect Fund Order); (2) new information collection requirements associated with a skilled nursing facilities pilot program (SNF Pilot) created in the Healthcare Connect Fund Order; (3) revisions to the annual reporting requirement for participants in the Commission's existing rural health care Pilot Program (2006 Pilot Program), created in 2006; and (4) extend the information collection requirements for the existing RHC programs (the Telecommunications Program and the Internet Access Program, as well as the 2006 Pilot Program).

The Commission issued a Notice of Proposed Rulemaking (NPRM) in July 2010 (FCC 10-125) that led to the Healthcare Connect Fund Order, and received OMB pre-approval for the information collection requirements proposed in the NPRM. The Healthcare Connect Fund Order, however, adopted information collection requirements that are in some ways significantly different from those proposed in the NPRM, based on the comments received in the rulemaking proceeding. Many of the proposed requirements have been modified in light of commenters' recommendations on streamlining and simplifying the information collection burden, especially on smaller health care providers.

The information collections described in this notice are contained in new rules adopted in the Healthcare Connect Fund Order (47 CFR 54.601(b), 54.631(a), 54.631(c), 54.632, 54.633(c), 54.634(b), 54.636, 54.639(d), 54.640(b), 54.642, 54.643, 54.645, 54.646, 54.647, 54.648(b), 54.675(d), and 54.679), and existing rules as amended by the Healthcare Connect Fund Order (47 CFR 54.603(a), 54.603(b), 54.609(d)(2), 54.615(c), 54.619(a)(1), 54.619(d), and 54.623(a)).

Beginning in Funding Year 2012, its filing process to provide a simple, web-based, user-friendly interface for submission of the Telecommunications and Internet Access Program information collections. Applicants are also able to upload required documentation (such as a bill) as they complete the online form. The interface is designed to provide online storage of applications and related materials for health care providers, in order to ease compliance with recordkeeping requirements and possible audits. Furthermore, the system is designed to carry forward information already provided by an applicant to future filings (i.e. pre-populate data), in order to further reduce the filing burden. Respondents in the Telecommunications and Internet Access Programs can also send their forms and other documents to USAC via mail or electronic mail. Respondents in the 2006 Pilot Program can send forms and documents via electronic mail, and invoices via mail.

USAC will implement the information collection for the new Healthcare Connect Fund through an online-only interface on the USAC Web site. Health care providers who lack sufficient Internet access will be able to contact USAC's help desk over the telephone to obtain assistance with filing.

Revised Information Collection Requirements: (1) HEALTHCARE CONNECT FUND: In December 2012, the Commission established the Healthcare Connect Fund, which reforms, expands, and modernizes the RHC program based on lessons learned from the 2006 Pilot Program. The Healthcare Connect Fund is separate from the Telecommunications Program and the 2006 Pilot Program. The Healthcare Connect Fund provides support, in part, for services similar to those supported under the Internet Access Program. Therefore, the Commission will stop providing support under the Internet Access Program for services received after June 30, 2014.

The following are the new Healthcare Connect Fund information collection requirements:

(a) Authorization for Third Parties To Submit Forms on Behalf of HCP/Consortium. Third parties (for example, consultants) may submit forms and other documentation on behalf of eligible health care providers if USAC receives, prior to submission of the forms or documentation, a written, dated, and signed authorization from the relevant officer, director, or other authorized employee stating that the HCP or Consortium Leader accepts all potential liability from any errors, omissions, or misrepresentations on the forms and/or documents being submitted by the third party.

(b) Form 460—Eligibility Determination and Consortium Information. Healthcare Connect Fund participants would be required to file a new FCC Form 460 in order to certify that they are eligible to receive support from the Fund. Applicants will be required to provide the HCP's address and contact information, identify the eligible HCP type, provide an address for each physical location that will receive supported connectivity, provide a brief explanation for why the HCP is eligible under the Act and the Commission's rules and orders, and certify to the accuracy of this information under penalty of perjury. They may also be required to provide a unique health care provider identifying number, such as a National Provider Identifier code and/or taxonomy code. Consortium applicants may file FCC Form 460 on behalf of member HCPs if they have a letter of agency (discussed below). Applicants must also register off-site administrative offices and off-site data centers for which they are receiving support.

FCC Form 460 will also be used to provide certain basic information about consortia to USAC: (1) The lead entity (“Consortium Leader”); (2) the individual contact person within the lead entity (the “Project Coordinator”); and (3) HCP sites that will participate in a consortium, including sites ineligible to receive support.

(c) Form 460 Attachment: Letter of Agency. Each Consortium Leader must also obtain a letter of agency (LOA) from each HCP participant that is independent of the Consortium Leader (i.e. HCP sites that are not owned or otherwise controlled by the Consortium Leader). The LOA is submitted as an attachment to FCC Form 460. The purposes of the LOA are to provide authority for the Consortium Leader to submit FCC Forms 460, 461, and/or 462 on behalf of the HCP site. Consortium leaders are required to obtain supporting information and/or documents to support eligibility for each HCP when they collect the LOAs, and may be asked for this information during a future audit or investigation.

(d) Form 460 Attachment: State/Non-Profit Entities That Want To Serve as Both Vendor and Consortium Leader/Consultant. In general, an entity may not simultaneously (1) serve as a Consortium Leader or provide consulting assistance to a consortium, and (2) participate as a potential vendor during the competitive bidding process. State organizations, public sector entities, or non-profit entities who wish to obtain an exemption from this prohibition may make a showing to USAC that they have set up an organizational and functional separation. The exemption must be obtained before the consortium begins preparing its FCC Form 461 (request for services) and associated documents.

(e) Form 460 Attachment—Agreement Regarding Legal and Financial Responsibility for Consortium Activities. Consortia may allocate legal and financial responsibility for supported program activities as they see fit, except for certain responsibilities specified in the Healthcare Connect Fund Order, provided that this allocation is memorialized in a formal written agreement between the affected parties (i.e. the Consortium Leader, and the consortium as a whole and/or its individual members). The written agreement must submitted to USAC for approval with or prior to the submission of FCC Form 461. The agreement should clearly identify the party(ies) responsible for repayment if USAC is required, at a later date, to recover disbursements to the consortium due to violations of program rules.

(f) Form 461—Request for Services (Competitive Bidding). All HCPs, unless their funding request is subject to a competitive bidding exemption, must submit a request for services (new Form 461 and associated documents) for posting by USAC, wait at least 28 days before selecting a service provider, and select the most cost-effective bid. On FCC Form 461, applicants will provide basic information regarding the HCP(s) on the application (including contact information for potential bidders), a brief description of the desired services, and evaluation criteria for bids. Each applicant must also certify that (1) it is authorized to submit the request and that all statements of fact in the application are true to the best of the signatory's knowledge; (2) it has followed any applicable state or local procurement rules; (3) the supported services and/or equipment will be used solely for purposes reasonably related to the provision of health care service or instruction that the HCP is legally authorized to provide under the law of the state in which the services are provided and will not be sold, resold, or transferred in consideration for money or any other thing of value; (4) the HCP or consortium satisfies all program requirements and will abide by all such requirements; and (5) all statements of facts contained therein are true to the best of their knowledge, information, and belief, and that under federal law, persons willfully making false statements on the form can be punished by fine, forfeiture, or imprisonment.

(g) Form 461 Attachment—Network Planning for Consortia. Consortium applicants must also submit a narrative attachment with FCC Form 461 that includes: (1) Goals and objectives of the proposed network; (2) strategy for aggregating the specific needs of HCPs (including providers that serve rural areas) within a state or region; (3) strategy for leveraging existing technology to adopt the most efficient and cost effective means of connecting those providers; (4) how the broadband services will be used to improve or provide health care delivery; (5) any previous experience in developing and managing health IT (including telemedicine) programs; and (6) a project management plan outlining the project's leadership and management structure, and a work plan, schedule, and budget.

(h) Form 461 Attachment—Request for Proposals (RFP). Submission of a separate RFP document with Form 461 is required for (1) applicants who are required to issue an RFP under applicable state, Tribal, or local procurement rules or regulations; (2) consortium applications that seek more than $100,000 in program support in a funding year; and (3) consortium applications that seek support for infrastructure (i.e. HCP-owned facilities) as well as services. In addition, any applicant is free to submit an RFP to USAC for posting. All applicants who utilize an RFP in conjunction with their competitive bidding process must submit the RFP to USAC for posting. RFPs must provide sufficient information to enable an effective competitive bidding process, including describing the HCP's service needs; specify the period during which bids will be accepted; and include the scoring criteria that will be used to evaluate bids for cost-effectiveness. In addition, certain additional requirements apply to RFPs if the applicant seeks support for long-term capital investments (such as HCP-constructed infrastructure or fiber indefeasible rights-of-use); dark fiber; services or equipment that include an ineligible component; or HCP-owned and constructed network facilities.

(i) FCC Form 462—Request for Funding. Once a service provider is selected, applicants will submit a “Funding Request” on FCC Form 462 (and supporting documentation) to provide information about the services and service providers (vendors) selected and certify that the services were the most cost-effective offers received. FCC Form 462 is the means by which an applicant identifies the service(s), rates, service provider(s), and date(s) of service provider selection. Applicants will also certify on FCC Form 462 that: (1) The person signing the application is authorized to submit the application on behalf of the applicant, and has examined the form and all attachments, and to the best of his or her knowledge, information, and belief, all statements of fact contained therein are true; (2) each service provider selected is, to the best of the applicant's knowledge, information, and belief, the most cost-effective service provider available, as defined in the Commission's rules; (3) all Healthcare Connect Fund support will be used only for the eligible health care purposes, as described in this Order and consistent with the Act and the Commission's rules; (4) the applicant is not requesting support for the same service from both the Healthcare Connect Fund and from other RHC programs; (5) the applicant satisfies all of the requirements under section 254 of the Act and applicable Commission rules, and understands that any letter from USAC that erroneously commits funds for the benefit of the applicant may be subject to rescission; (6) the applicant has reviewed all applicable requirements for the program and will comply with those requirements; and (7) the applicant will maintain complete billing records for the service for five years (and for long-term capital investments, for five years after the end of the useful life of the facility).

(j) FCC Form 462 Attachment—Contracts or Similar Documentation. All applicants must submit a contract or other documentation that clearly identifies (1) the vendor(s) selected and the HCP(s) who will receive the services; (2) the service, bandwidth, and costs for which support is being requested; (3) the term of the service agreement(s) if applicable (i.e. if services are not being provided on a month-to-month basis).

(k) FCC Form 462 Attachment—Cost Allocation Method for Ineligible Entities or Components. Applicants who seek to include ineligible entities within a consortium, or to obtain support for services or equipment that include both eligible and ineligible components, should submit a written description of their allocation method(s) to USAC with their funding requests. If ineligible entities participate in a network, the allocation method must be memorialized in writing, such as a formal agreement among network members, a master services contract, or for smaller consortia, a letter signed and dated by all (or each) ineligible entity and the Consortium Leader. Applicants should also submit with their funding requests any agreements that memorialize cost-sharing arrangements with ineligible entities.

(l) FCC Form 462 Attachment—Competitive Bidding Documents. Applicants must submit documentation to support their certifications that they have selected the most cost-effective option. Relevant documentation includes a copy of each bid received (winning, losing, and disqualified), the bid evaluation criteria, and any other related documents, such as bid evaluation sheets; a list of people who evaluated bids (along with their title/role/relationship to the applicant organization); memos, board minutes, or similar documents related to the vendor selection/award; copies of notices to winners; and any correspondence with service providers during the bidding/evaluation/award phase of the process. If the application is exempt from competitive bidding, the applicant should submit sufficient documentation to allow USAC to verify that the applicant is eligible for the exemption.

(m) FCC Form 462 Attachment—Updated Network Planning for Consortia. Consortium applicants should submit any revisions to the project management plan, work plan, schedule, and budget previously submitted with the Request for Services (Form 461). If not previously provided with the project management plan, applicants should also provide (or update) a narrative description of how the network will be managed, including all administrative aspects of the network (including but not limited to invoicing, contractual matters, and network operations.) If the consortium is required to provide a sustainability plan (see below), the revised budget should include the budgetary factors discussed in the sustainability plan requirements.

(n) FCC Form 462 Attachment—List of Participating HCPs and Relevant Information. Consortium applicants will be required to provide electronically (via a spreadsheet or similar method) a list of the participating HCPs (both those eligible for support and those ineligible) and all of their relevant information, including eligible (and ineligible, if applicable) cost information for each participating HCP.

(o) FCC Form 462 Attachment—Evidence of Viable Source for 35 Percent Contribution. All consortium applicants must submit, with their funding requests, evidence of a viable source for their 35 percent contribution.

(p) FCC Form 462 Attachment—Sustainability Plans for Applicants Requesting Support for Long-Term Capital Expenses. Consortia who seek funding to construct and own their own facilities or obtain indefeasible rights of use (IRUs) or capital lease interests must submit a sustainability plan with their funding requests demonstrating how they intend to maintain and operate the facilities that are supported over the relevant time period. Although participants are free to include additional information to demonstrate a project's sustainability, the sustainability plan must, at a minimum, address the following points: (1) Projected sustainability period; (2) principal factors considered to demonstrate sustainability; (3) terms of membership in the network; ownership structure for the network; sources of future support; management structure of the network. Applicants will be required to later submit revised sustainability plans if there is a material change in sources of future support or management, a change that would impact projected income or expenses by the greater of 20 percent or $100,000 from the previous submission, or if the applicant submits a funding request based on a new Form 461 (i.e., a new competitively bid contract).

(q) FCC Form 463—Invoicing. Service providers will bill HCPs directly for services that they have provided. Upon receipt of a service provider's bill, the HCP will create and approve an invoice for USAC on FCC Form 463 for the services it has received. On the invoice, (1) the HCP or Consortium Leader must certify to USAC that it has paid its 35 percent contribution directly to the service provider; and (2) the HCP and service provider must certify that they have reviewed the invoice and that it is accurate. USAC will pay the service provider directly based on the invoice. For consortia, the Consortium Leader is responsible for the invoicing process, including certifying that the participant contribution has been paid and that the invoice is accurate.

(r) Extension Request for Lighting Fiber. Fiber must be lit during the funding year for non-recurring charges associated with such fiber to be eligible. Applicants may receive up to a one-year extension to light fiber, however, if they provide documentation to USAC that construction was unavoidably delayed due to weather or other reasons.

(s) Recordkeeping. Program participants and vendors in the Healthcare Connect Fund must maintain required documentation for five years after the service has been delivered (or after the end of the useful life of a facility for which the participant has received support to make a long-term capital investment) and produce these records upon request of the Commission, any auditor appointed by the Administrator or the Commission, or of any other state or federal agency with jurisdiction. For a consortium, the Consortium Leader is responsible for compliance with the Commission's recordkeeping requirements.

(t) Annual Reporting Requirement for Consortium Participants. Consortium participants in the Healthcare Connect Fund will be required to submit annual reports to assist the Commission in measuring progress toward the three program goals for the Healthcare Connect Fund. Additionally, applicants may request support for upfront, non-recurring charges for long-term capital investments, such as constructing their own network facilities, or obtaining an indefeasible right-of-use (IRU) or prepaid lease interest in existing network facilities such as dark fiber. In such a case, the applicant may be obtaining access to facilities that have a useful life extending many years after program funds have been disbursed, but would not need to submit requests for funding on an annual basis once access to the facility is obtained. In order to ensure that such facilities continue to be used for eligible purposes throughout their useful life, the Commission will require such applicants to submit, during the useful life of the facility, additional information identifying the health care providers utilizing the network, and the services they are receiving from the supported network. Much of the data to be collected from participants in the Healthcare Connect Fund, as discussed in the Healthcare Connect Order, is already collected through FCC Forms 460, 461, 462, and 463. In order to minimize the burden posed by the annual report, the Commission and USAC will develop a simple and streamlined, electronic reporting system that integrates data collected through the application process, thereby eliminating the need to resubmit (in the annual report) any information that has previously been provided.

(2) SKILLED NURSING FACILITIES PILOT: Also in December 2012, the Commission adopted the Skilled Nursing Facilities Pilot (SNF Pilot) to test how to support broadband connections for skilled nursing facilities. The SNF Pilot will focus on how the Commission can best utilize program support to assist skilled nursing facilities that are using broadband connectivity to work with eligible health care providers through the use of electronic health records, telemedicine, and other broadband-enabled health care applications. The Commission intends to utilize Healthcare Connect Fund forms for the Skilled Nursing Facilities Pilot Program (e.g. to register skilled nursing facility locations with USAC, invoicing, etc.) to the extent feasible, except with respect to the application and reporting requirements described below.

The following new information collection requirements are associated with the SNF Pilot:

(u) Application for Skilled Nursing Facilities Pilot. Participants in the SNF Pilot will be selected using a competitive process. It is anticipated that applications for the SNF Pilot will likely be in a narrative format, and may include the following elements: (1) Project description, budget and goals, including technologies to be used and patient population(s) to be targeted; (2) explanation of the need for broadband connectivity and anticipated health IT uses of supported connectivity; (3) anticipated health care cost savings and/or improvements in the quality of health care enabled through use of broadband-enabled health IT; (4) a detailed explanation of the design, data gathering and evaluation component of the project; (5) a description of the sites to be connected and the network design; and (6) certifications to ensure compliance with program requirements.

The Commission will be developing scoring criteria for applications for the SNF Pilot with the input of relevant stakeholders (such as the U.S. Department of Health and Human Services (HHS)), consistent with the program goals for the Healthcare Connect Fund. Once the scoring criteria are developed, the Commission will release a Public Notice announcing the application procedures and deadlines. Applicants will include in their applications a demonstration of how they satisfy the scoring criteria.

(v) Reporting Requirements for Skilled Nursing Facilities Pilot Participants. The SNF Pilot Program will seek to collect data on a number of variables related to the broadband connections supported and their health care uses. Applicants must commit to robust data gathering as well as analysis and sharing of the data and to submitting an annual report. Applicants will be expected to explain what types of data they intend to gather and how they intend to gather that data in their applications. At the conclusion of the Pilot, applicants should be prepared to demonstrate with objective, observable metrics the health care cost savings and/or improved quality of patient care that have been realized through greater use of broadband to provide telemedicine to treat the residents of SNFs. The Commission plans to make this data public for the benefit of all interested parties, including third parties that may use such information for their own studies and observations.

(3) REVISIONS TO 2006 PILOT PROGRAM REPORTING REQUIREMENTS: Participants in the 2006 Pilot Program are currently required to submit to USAC and the Commission quarterly reports containing data listed in the Rural Health Care Pilot Program Selection Order, Appendix D.

(w) Revised Reporting Requirements for 2006 Pilot Program Participants. In the Healthcare Connect Fund Order, the Commission modified the 2006 Pilot Program reporting requirements to: (1) Extend through and include the last funding year in which a Pilot project received Pilot support, or, for Pilot Projects that received large upfront payments, for the life of the supported facility; (2) file annually instead of quarterly, filing their first annual report on September 30, 2013 and submitting the report to USAC, rather than USAC and the Commission; and (3) conform their reports with the Healthcare Connect Fund annual reports for consortia, where participants will be required to submit annual reports to assist the Commission in measuring progress toward the three program goals: increase access to broadband for health care providers; develop and deploy of broadband healthcare networks; and measure the cost-effectiveness of the program.

Previously Approved Collection Requirements: The Telecommunications, Internet Access, and 2006 Pilot Programs use forms and instructions that have been previously approved by OMB as part of this information collection. The Commission is seeking renewal of these forms and instructions for a new three-year period.

All eligible health care providers applying for discounts under the Telecommunications, Internet Access, and 2006 Pilot Programs must file FCC Forms 465, 466 and/or 466-A, and 467. Eligible health care providers file FCC Form 465 with USAC to make a bona fide request for supported services. Next, after a period of not less than 28-days after filing FCC Form 465, a health care provider that has selected a vendor submits FCC Form 466 and/or 466-A to indicate the type(s) and cost(s) of services ordered, information about the service provider, and the terms of the service agreement. Eligible health care providers must also certify on the applicable FCC Forms 466 and 466-A that the health care provider has selected the most cost-effective method of providing the selected service(s). The last form eligible health care providers submit is FCC Form 467, which is used by the entity to notify USAC that the service provider has begun providing supported services. As part of this information collection, OMB has also previously approved certain templates, samples, and spreadsheets provided to program participants to facilitate the reporting and record keeping requirements under this collection.

Federal Communications Commission.
Gloria J. Miles,
Federal Register Liaison, Office of the Secretary, Office of Managing Director.

[FR Doc. 2013-07478 Filed 3-29-13; 8:45 am]

BILLING CODE 6712-01-P